DEPARTMENT OF COMMERCE

Bureau of Industry and Security

[Docket No. 250612-0097; XRIN: 0694-XC122]

Implementation of Duties on Steel Pursuant to Proclamation 10896 Adjusting Imports of Steel Into the United States

AGENCY: Bureau of Industry and Security, Department of Commerce.

ACTION: Notice.

SUMMARY: In the Proclamation of February 10, 2025, Adjusting Imports of Steel into the United States (Steel Presidential Proclamation), the President imposed specified rates of duty on imports of steel. That Proclamation authorized and directed the Secretary of Commerce to publish modifications to the Harmonized Tariff Schedule of the United States (HTSUS) so that it conforms to the amendments and effective dates in the Proclamation. The Bureau of Industry and Security (BIS) published a notice, Implementation of Duties on Steel Pursuant to Proclamation 10896 Adjusting Imports of Steel into the United States, on behalf of the Secretary of Commerce on March 5, 2025, that fulfilled this directive. The revised HTSUS was set out in Annex 1 to the March 5 notice. In this notice, BIS revises Annex 1 to add additional steel derivative products.

DATES: Steel derivatives added to the annex in this notice: The duties set out in the annex for these additional steel derivatives are effective with respect to certain products that are entered for consumption, or withdrawn from warehouse for consumption, on or after 12:01 a.m. Eastern Time on June 23, 2025.

SUPPLEMENTARY INFORMATION:

Background

On February 10, 2025, the President issued the Steel Presidential Proclamation adjusting imports of steel into the United States (Proclamation 10896 of February 10, 2025) (90 FR 9817). The Steel Presidential Proclamation instructed the Secretary of Commerce in consultation with the Commissioner of United States Customs and Border Protection within the Department of Homeland Security, and the heads of other relevant executive departments and agencies, to revise the HTSUS so that it conforms to the amendments and effective dates directed in the Steel Presidential Proclamation. The Proclamation directed and authorized the Secretary of Commerce to publish any such modifications to the HTSUS in the Federal Register. BIS published such modifications in Annex 1 to the notice, Implementation of Duties on Steel Pursuant to Proclamation 10896 Adjusting Imports of Steel into the United States, on behalf of the Secretary of Commerce on March 5, 2025 (90 FR 11249). On June 3, 2025, the President issued Proclamation 10947, Adjusting Imports of Aluminum and Steel into the United States, which adjusted the Section 232 tariff rates on aluminum and steel imports and (except for products of the United Kingdom) imposed an additional 25 percent ad valorem tariff to aluminum and steel imports and derivative aluminum and steel articles (90 FR 24199).

In this notice, BIS revises Annex 1 to add the following additional steel derivative products:

(1) combined refrigerator-freezers under HTSUS subheading 8418.10.00;

(2) small and large dryers under HTSUS subheadings 8451.21.00 and 8451.29.00;

(3) washing machines under HTSUS subheadings 8450.11.00 and 8450.20.00;

(4) dishwashers under HTSUS subheading 8422.11.00;

(5) chest and upright freezers under HTSUS subheadings 8418.30.00 and 8418.40.00;

(6) cooking stoves, ranges, and ovens under HTSUS subheading 8516.60.40;

(7) food waste disposals under HTSUS subheading 8509.80.20; and

(8) welded wire rack under statistical reporting number 9403.99.9020.

The tariff imposed under Proclamation 10896 will be assessed on these derivative products for the value of the steel content in each product.

All other tariff codes for steel and steel derivative products in Annex 1 remain unchanged.

Note that products classified under statistical reporting number 9403.99.9020 continue to be subject to tariffs under Proclamation 10895 as derivative products of aluminum for their aluminum content.

Julia Khersonsky,
Deputy Assistant Secretary for Strategic Trade.

Annex 1

A. Effective with respect to goods entered for consumption, or withdrawn from warehouse for consumption, on or after 12:01 a.m. eastern daylight time on June 23, 2025, subchapter III of chapter 99 is modified:

“1. Subdivision (n) of note 16 to subchapter III of chapter 99 of the HTS is modified:

a. by inserting “: (1)” before the phrase “all imported derivative iron or steel products” in line 1 of the subdivision; and

b. by inserting the following phrase at the end of the sentence after “9406.90.01”:

“and (2) all imported derivative iron or steel products that are classified in the following subheadings of the HTSUS, including products admitted into a U.S. foreign trade zone under “privileged foreign status” as defined by 19 CFR 146.41, prior to 12:01 a.m. eastern daylight time on June 23, 2025, unless the derivative iron or steel product was processed in another country from steel articles that were melted and poured in the United States: 8418.10.00; 8418.30.00; 8418.40.00; 8422.11.00; 8450.11.00; 8450.20.00; 8451.21.00; 8451.29.00; 8509.80.20; 8516.60.40; 9403.99.9020”.

“2. Subdivision (u) of note 16 to subchapter III of chapter 99 of the HTS is modified:

a. by inserting “: (1)” before the phrase “all imported derivative iron or steel products” in line 1 of the subdivision; and

b. by inserting the following phrase at the end of the sentence after “9406.90.01”:

“and (2) all imported derivative iron or steel products that are classified in the following subheadings of the HTSUS, including products admitted into a U.S. foreign trade zone under “privileged foreign status” as defined by 19 CFR 146.41, prior to 12:01 a.m. eastern daylight time on June 23, 2025, unless the derivative iron or steel product was processed in another country from steel articles that were melted and poured in the United States: 8418.10.00; 8418.30.00; 8418.40.00; 8422.11.00; 8450.11.00; 8450.20.00; 8451.21.00; 8451.29.00; 8509.80.20; 8516.60.40; 9403.99.9020”.

[FR Doc. 2025-11067 Filed 6-12-25; 4:15 pm]

BILLING CODE 3510-33-P